DEPARTMENT OF JUSTICE

Antitrust Division

Notice Pursuant to the National Cooperative Research and Production Act of 1993—Integrated Photonics Institute for Manufacturing Innovation Operating Under the Name of the American Institute for Manufacturing Integrated Photonics

Notice is hereby given that, on June 19, 2017, pursuant to Section 6(a) of the National Cooperative Research and Production Act of 1993, 15 U.S.C. 4301 et seq. (“the Act”), the Integrated Photonics Institute for Manufacturing Innovation operating under the name of the American Institute for Manufacturing Integrated Photonics (“AIM Photonics”) has filed written notifications simultaneously with the Attorney General and the Federal Trade Commission disclosing changes in its membership. The notifications were filed for the purpose of extending the Act's provisions limiting the recovery of antitrust plaintiffs to actual damages under specified circumstances. Specifically, GE Global Research, Niskayuna, NY; Cisco Systems, Inc., San Jose, CA; AIXTRON SE, Sunnyvale, CA; Toppan Photomasks, Inc., Round Rock, TX; Ortho Clinical Diagnostics, Rochester, NY; OndaVia, Inc., Hayward, CA; Lockheed Martin Corporation, Bethesda, MA; The University of Akron, Akron, OH; MIT Lincoln Laboratory, Lexington, MA; and Hamamatsu Corporation, Bridgewater, NJ, have been added as parties to this venture.

No other changes have been made in either the membership or planned activity of the group research project. Membership in this group research project remains open, and AIM Photonics intends to file additional written notifications disclosing all changes in membership.

On June 16, 2016, AIM Photonics filed its original notification pursuant to Section 6(a) of the Act. The Department of Justice published a notice in the Federal Register pursuant to Section 6(b) of the Act on July 25, 2016 (81 FR 48450).

The last notification was filed with the Department on March 22, 2017. A notice was published in the Federal Register pursuant to Section 6(b) of the Act on May 1, 2017 (82 FR 20384).

Patricia A. Brink,
Director of Civil Enforcement, Antitrust Division.

[FR Doc. 2017-16053 Filed 7-31-17; 8:45 am]

BILLING CODE P